DEPARTMENT OF AGRICULTURE

Cooperative State Research, Education, and Extension Service

Higher Education Challenge Grants Program for Fiscal Year 2001; Request for Proposals and Request for Stakeholder Input

AGENCY: Cooperative State Research, Education, and Extension Service, USDA.

ACTION: Notice of request for Proposals (RFP) and Request for Stakeholder Input.

SUMMARY: The Cooperative State Research, Education, and Extension Service (CSREES) is announcing the Higher Education Challenge Grants Program for Fiscal Year (FY) 2001. Proposals are hereby requested from eligible institutions as identified herein for competitive consideration of Higher Education Challenge Grant awards.

By this notice, CSREES also requests stakeholder input from any interested party. These comments will be considered in the development of the next RFP for this program. Such comments will be used in meeting the requirements of section 103(c)(2) of the Agricultural Research, Extension, and Education Reform Act of 1998.

DATES: Proposals must be received on or before March 5, 2001. Proposals received after the closing date will not be considered for funding.

User comments are requested within six months from the issuance of this notice. Comments received after that date will be considered to the extent practicable.

ADDRESSES: Proposals submitted through the U.S. mail should be sent to the following address: Higher Education Challenge Grants Program; c/o Proposal Services Unit; Office of Extramural Programs; Cooperative State Research, Education, and Extension Service; U.S. Department of Agriculture; STOP 2245; 1400 Independence Avenue, SW., Washington, DC 20250-2245.

Hand-delivered proposals (brought in person by the applicant or through a courier service) must be delivered to the following address: Higher Education Challenge Grants Program; c/o Proposal Services Unit; Office of Extramural Programs; Cooperative State Research, Education, and Extension Service; U.S. Department of Agriculture; Room 1307, Waterfront Centre; 800 9th Street, SW., Washington, DC 20024. The telephone number is (202) 401-5048. Proposals transmitted via a facsimile (fax) machine will not be accepted.

Written user comments should be submitted by mail to: Policy and Program Liaison Staff; Office of Extramural Programs; USDA-CSREES; STOP 2299; 1400 Independence Avenue, SW., Washington, DC 20250-2299; or via e-mail to: RFP-OEP@reeusda.gov. (This e-mail address is intended only for receiving stakeholder comments regarding this RFP, and not for requesting information or forms.)

FOR FURTHER INFORMATION CONTACT: P. Gregory Smith, Higher Education Programs; Cooperative State Research, Education, and Extension Service; U.S. Department of Agriculture; STOP 2251; 1400 Independence Avenue, SW.; Washington, DC 20250-2251; telephone: (202) 720-2211; e-mail: gsmith@reeusda.gov.

Stakeholder Input

CSREES is requesting comments regarding this solicitation of applications from any interested party. In your comments, please include the name of the program and the fiscal year to which you are responding. These comments will be considered in the development of the next RFP for the program. Such comments will be used in meeting the requirements of section 103(c)(2) of the Agricultural Research, Extension, and Education Reform Act of 1998, 7 U.S.C. 7613(c). Comments should be submitted as provided in the “Addresses” and “Dates” portions of this Notice.

SUPPLEMENTARY INFORMATION:

Table of Contents

A. Administrative Provisions

B. Legislative Authority

C. Catalog of Federal Domestic Assistance

D. Purpose of the Program

E. Eligibility

F. Available Funds

G. Targeted Need Areas Supported

H. Degree Levels Supported

I. Proposal Submission Limitations

J. Project Duration

K. Matching Requirement

L. Maximum Grant Amount

M. Limitation on Indirect Costs

N. Funding Limitations Per Institution

O. Maximum Number of Grants Per Institution

P. Other Limitations

Q. Evaluation Criteria

R. How to Obtain Application Materials

S. What to Submit

T. Where and When to Submit

U. Acknowledgment of Proposals

V. Intent to Submit a Proposal

A. Administrative Provisions

This Program is subject to the provisions found at 7 CFR Part 3405. These provisions set forth procedures to be followed when submitting grant proposals, rules governing the evaluation of proposals and the awarding of grants, and regulations relating to the post-award administration of grant projects.

B. Legislative Authority

The authority for this program is contained in section 1417(b)(1) of the National Agricultural Research, Extension, and Teaching Policy Act of 1977, as amended (NARETPA) (7 U.S.C. 3152(b)(1)). In accordance with the statutory authority, subject to the availability of funds, the Secretary of Agriculture, who has delegated the authority to the Administrator of CSREES, may make competitive grants, for a period not to exceed 5 years, to land-grant colleges and universities, to colleges and universities having significant minority enrollments and a demonstrable capacity to carry out the teaching of food and agricultural sciences, and to other colleges and universities having a demonstrable capacity to carry out the teaching of food and agricultural sciences, to administer and conduct programs to respond to identified State, regional, national or international educational needs in the food and agricultural sciences. For this program, the term “food and agricultural sciences” means basic, applied, and developmental teaching activities in food and fiber, agricultural, renewable natural resources, forestry, and physical and social sciences, and including related disciplines as defined in section 1404(8) of NARETPA, 7 U.S.C. 3103(8).

C. Catalog of Federal Domestic Assistance

This program is listed in the Catalog of Federal Domestic Assistance under No. 10.217, Higher Education Challenge Grants Program.

D. Purpose of the Program

Grants will be made to U.S. colleges and universities to strengthen their teaching programs in the food and agricultural sciences in the targeted need areas as described herein. The Higher Education Challenge Grants Program is designed to stimulate and enable colleges and universities to provide the quality of education necessary to produce baccalaureate or higher degree level graduates capable of strengthening the Nation's food and agricultural scientific and professional work force. It is intended that projects supported by the program will: (1) Address a State, regional, national, or international educational need; (2) involve a creative or nontraditional approach toward addressing that need which can serve as a model to others; (3) encourage and facilitate better working relationships in the university science and education community, as well as between universities and the private sector, to enhance program quality and supplement available resources; and (4) result in benefits which will likely transcend the project duration and USDA support.

E. Eligibility

Proposals may be submitted by land-grant and other U.S. colleges and universities offering a baccalaureate degree or any other higher degree and having a demonstrable capacity for, and a significant ongoing commitment to, the teaching of food and agricultural sciences generally and to the specific need and/or subject area(s) for which a grant is requested. In addition, a grantee institution must meet the definition of a college or university as defined in 7 CFR 3405.2(f). An institution eligible to receive an award under this program includes a research foundation maintained by an eligible college or university. For the purposes of this program, the individual branches of a State university system or public system of higher education, that are separately accredited at the college level as degree granting institutions, are treated as separate institutions.

F. Available Funds

CSREES anticipates that the amount available for project grants under this program in FY 2001 will be approximately $4,070,000. Awards will be based on merit evaluation of proposals by peer review panels and internal staff review.

G. Targeted Need Areas Supported

For FY 2001, proposals must address one or more of the following targeted need areas: (1) Curricula Design and Materials Development; (2) Faculty Preparation and Enhancement for Teaching; (3) Instruction Delivery Systems; and (4) Student Experiential Learning. A description of these targeted need areas can be found in the Scope of Program section at 7 CFR 3405.6. A proposal may address a single targeted need area or multiple targeted need areas, and may be focused on a single subject matter area or multiple subject matter areas, in any combination (e.g., curriculum development in horticulture; curriculum development, faculty enhancement, and student experiential learning in animal science; faculty enhancement in food science and agribusiness management; or instruction delivery systems and student experiential learning in plant science, horticulture, and entomology).

H. Degree Levels Supported

For FY 2001, proposals must be directed to undergraduate studies leading to a baccalaureate degree. For purposes of this program, proposals directed to the first professional degree in veterinary medicine also are allowable. Projects directed to the graduate level of study will not be supported.

I. Proposal Submission Limitations

There is no limit on the number of proposals any one institution may submit. In addition, there is no limit on the number of proposals which may be submitted on behalf of the same school, college, or equivalent administrative unit within an institution.

J. Project Duration

A regular, complementary, or joint project proposal may request funding for a project period of 18-36 months duration.

K. Matching Requirement

Each grant recipient under the Higher Education Challenge Grants Program is required to match the grant funds awarded on a dollar-for-dollar basis from a non-Federal source(s). The cash contributions towards matching from the institution should be identified in the column “Applicant Contributions to Matching Funds” of the Higher Education Budget, Form CSREES-713. The cash contributions of the institution and third parties as well as non-cash contributions should be identified on Line N., as appropriate, of Form CSREES-713 and described in the budget justification. Any cost-sharing commitments specified in the proposal will be referenced and included as a condition of an award resulting from this announcement.

L. Maximum Grant Amount

For a regular or complementary project proposal, the maximum funds that may be requested from CSREES under this program to cover allowable costs during the project period are $100,000. (The total Federal contribution to the budget for a regular or complementary project proposal may not exceed $100,000.) For a joint project proposal, the maximum funds that may be requested from CSREES under this program to cover allowable costs during the project period are $250,000. (The total Federal contribution to the budget for a joint project proposal may not exceed $250,000.) Please refer to the Administrative Provisions for this program at 7 CFR 3405.2 for the definitions of regular, complementary, and joint project proposals. Note: These maximums are for the total duration of the project, not per year.

M. Limitation on Indirect Costs

Pursuant to section 1462 of NARETPA, 7 U.S.C. 3310, indirect costs charged against a grant may not exceed 19 percent of the total Federal funds provided under the grant award. An alternative method of calculation of this limitation is to multiply total direct costs by 23.456 percent. Note that the indirect cost limit of 19 percent also applies to matching funds.

N. Funding Limitations Per Institution

In FY 2001, there are no limits on the total funds that may be awarded to any one institution.

O. Maximum Number of Grants Per Institution

For FY 2001, a maximum of two grants may be awarded to any one institution under the Higher Education Challenge Grants Program. This ceiling excludes any subcontracts awarded to an institution pursuant to other grants issued under this program.

P. Other Limitations

For FY 2001, the applicant institution submitting a joint Challenge Grant proposal must transfer at least one-half of the awarded funds to the two or more other colleges, universities, community colleges, or other institutions assuming a major role in the conduct of the project. For FY 2001, the applicant institution submitting a joint Challenge Grant proposal must retain at least 30 percent of awarded funds to demonstrate a substantial involvement with the project.

Q. Evaluation Criteria

NARETPA requires that certain priorities be given in awarding grants for teaching enhancement projects under section 1417(b). This program is authorized under section 1417(b). CSREES considers all applications received in response to this solicitation as teaching enhancement project applications. To implement the NARETPA priorities for proposals submitted for the FY 2001 competition, the evaluation criteria used to evaluate proposals, as provided in the Administrative Provisions for this program (7 CFR 3405.15), have been modified to include new criteria or extra points for proposals demonstrating enhanced coordination among eligible institutions and for proposals focusing on innovative, multidisciplinary education programs, material, or curricula.

Evaluation Criterion Weight

(a) Potential for Addressing a State, Regional, National or International Need: 65 Points

This criterion assesses the potential of the project to add value by advancing the quality of food and agricultural sciences higher education and producing graduates capable of strengthening the Nation's food and agricultural scientific and professional work force. This criterion includes the following elements: impact, innovation, multidisciplinary, expected products and results, and continuation plans.

(1) Impact—Does the project address a significant and clearly documented State, regional, multistate, national, or international need? Will the benefits to be derived from the project transcend the applicant institution and/or the grant period?

(2) Innovative and Multidisciplinary Focus—Does the project focus on innovative, multidisciplinary education programs, material, or curricula? Is the project based on a non-traditional approach toward solving a higher education problem? Is the project relevant to multiple fields in the food and agricultural sciences? Will the project expand partnership ventures among disciplines at a university?

(3) Products and results—Are the expected products and/or results of the project clearly explained? Will the project contribute to an improvement in the quality or diversity of the Nation's food and agricultural scientific and professional expertise base?

(4) Continuation plans—Are there plans for continuation or expansion of the project beyond USDA support? Are there indications of external, non-Federal support? Are there realistic plans for making the project self-supporting?

(b) Potential of Submitting Institution(s) To Successfully Complete Project Objectives: 70 Points

This criterion assesses the soundness of the proposed approach, the adequacy of human and physical resources available to carry out the project, the institution's commitment to the project, partnerships and collaborative efforts involving all types of institutions, its cost-effectiveness, and the extent to which the total budget adequately supports the project.

(1) Proposed approach—Are the objectives achievable, logical, and based on review of literature? Is the plan of operation managerially, educationally, and/or scientifically sound? Is the overall plan integrated with or does it expand upon other major efforts to improve the quality of food and agricultural sciences higher education? Is the timetable realistic?

(2) Resources—Are there adequate institutional resources to carry out the project? Do the project personnel possess requisite expertise to complete successfully the project? Have personnel committed adequate effort to achieve stated objectives and anticipated outcomes? Will the project have adequate administrative support to carry out the proposed activities? Will the project have access to needed resources such as instrumentation, facilities, computer services, library, and other instruction support resources?

(3) Institutional commitment—Is there evidence to substantiate that the institution has a long term commitment to support the result(s) and/or product(s) produced by this project, that it will help satisfy the institution's high-priority objectives, or that the project is supported by the strategic plans?

(4) Coordination and partnership efforts—Will the project demonstrate enhanced coordination between the applicant institution(s) and other colleges and universities with food and agricultural science programs eligible for grants under this program? Will the project expand partnership ventures among eligible colleges and universities, or with the private sector, that are likely to enhance program quality or supplement resources available to food and agricultural sciences higher education? Will the arrangements for partner(s) and/or collaborator(s) enhance dissemination of the result(s) and/or product(s)?

(5) Budget and cost-effectiveness—Is the budget request justifiable? Are costs reasonable and necessary? Will the total budget be adequate to carry out project activities? Are the source(s) and amount(s) of non-Federal matching support clearly identified and appropriately documented? For a joint project proposal, is the shared budget for three or more institutions explained clearly and in sufficient detail? Is the proposed project cost-effective? Does it demonstrate a creative use of limited resources, maximize educational value per dollar of USDA support, achieve economies of scale, leverage additional funds or have the potential to do so, focus expertise and activity on a targeted need area, or promote coalition building for current or future ventures?

(c) Effectiveness of Evaluation Plan and Potential for Dissemination of the Result(s) and/or Products to Other Institutions and for Utilization by Other Institutions: 65 Points

This criterion assesses the adequacy of the evaluation strategy, the quality of outcome measures, the expertise and availability of human resources to conduct the evaluation, the record of the key personnel is disseminating advancements in education, e.g., publishing educational articles in peer reviewed journals, the adequacy of the plan for dissemination, and the potential for utilization by other institutions.

(1) Evaluation—Does the proposal contain a well-designed plan to evaluate results of the project? Will this plan provide conclusions suitable for convincing a peer review audience of the accomplishment? Does it allow for continuous and/or frequent feedback during the life of the project? Does the evaluation plan contain outcome measures? Are the outcome measures capable of assessing the quality and usefulness of project results and products? Are the individuals involved in project evaluation skilled in evaluation strategies and procedures? Can the outcome measures provide an objective evaluation? Is the outcome assessment designed in such a way that it can assist faculty at other institutions in deciding whether to use project results or products?

(2) Dissemination—Is there a commitment to submit the results of the project evaluation to peer review by the academic community in the food and agricultural sciences? Does the proposed project include clearly outlined and realistic mechanisms that will lead to widespread dissemination of project results, including national electronic communication systems, publications, presentations at professional conferences, and/or use by faculty development or research/teaching skills workshops?

(3) Utilization—Is it probable that other institutions will adapt the result(s) and/or product(s) of this project for their own use? Can the project serve as a model for others? If successful, is the project likely to lead to education reform? Is the product(s) and/or result(s) likely to provide a significant contribution to the advancement of higher education in the food and agricultural sciences? Are partner(s) and/or collaborator(s) committed to utilize the product(s) and/or result(s)?

R. How To Obtain Application Materials

An Application Kit containing program application materials will be made available to eligible institutions upon request. These materials include the Administrative Provisions, forms, instructions, and other relevant information needed to prepare and submit grant applications. Copies of the Application Kit may be requested from the Proposal Services Unit; Office of Extramural Programs; Cooperative State Research, Education, and Extension Service; U.S. Department of Agriculture; STOP 2245; 1400 Independence Avenue, SW., Washington, DC 20250-2245. The telephone number is (202) 401-5048. When contacting the Proposal Services Unit, please indicate that you are requesting forms for the FY 2001 Challenge Grants Program.

Application materials may also be requested via Internet by sending a message with your name, mailing address (not e-mail) and telephone number to psb@reeusda.gov that states that you wish to receive a copy of the application materials for the FY 2001 Challenge Grants Program. The materials will then be mailed to you (not e-mailed) as quickly as possible.

S. What To Submit

An original and seven (7) copies of a proposal, and a diskette containing a PC-based (not MAC) electronic file of the proposal Summary and Narrative (in Word or WordPerfect), must be submitted. Proposals should contain all requested information when submitted. Each proposal should be typed on 8½″ x 11″ white paper, double-spaced, and on one side of the page only. Please note that the text of the proposal should be prepared using no type smaller than 12 point font size and one-inch margins. The entire proposal should be paginated. Note that the Narrative section of the proposal is limited to 20 pages. All copies of the proposal must be submitted in one package. Each copy of the proposal must be stapled securely in the upper left-hand corner (DO NOT BIND).

T. Where and When To Submit

Hand-delivered proposals (brought in person by the applicant or through a courier service) must be RECEIVED on or before March 5, 2001, at the following address: Challenge Grants Program; c/o Proposal Services Unit; Office of Extramural Programs; Cooperative State Research, Education, and Extension Service; U.S. Department of Agriculture; Room 1307, Waterfront Building; 800 9th Street, SW., Washington, DC 20024. Proposals transmitted via a facsimile (fax) machine will not be accepted.

Proposals submitted through the U.S. mail must be RECEIVED on or before March 5, 2001. Proposals submitted through the U.S. mail should be sent to the following address: Challenge Grants Program; c/o Proposal Services Unit; Office of Extramural Programs; Cooperative State Research, Education, and Extension Service; U.S. Department of Agriculture; STOP 2245; 1400 Independence Avenue, SW., Washington, DC 20250-2245. The telephone number is (202) 401-5048.

U. Acknowledgment of Proposals

The receipt of all proposals will be acknowledged by e-mail, therefore applicants are encouraged to provide e-mail addresses, where designated, on the Form CSREES-661. The acknowledgment will contain an identifying proposal number. Once your proposal has been assigned a proposal number, please cite that number in future correspondence.

V. Intent To Submit a Proposal

For the FY 2001 competition, Form CSREES-711, “Intent to Submit a Proposal,” is not requested nor required for the Higher Education Challenge Grants Program.

Done at Washington, DC, this 16th day of January 2001.
Colien Hefferan,
Administrator, Cooperative State Research, Education, and Extension Service.

[FR Doc. 01-1721 Filed 1-23-01; 8:45 am]

BILLING CODE 3410-22-P